DEPARTMENT OF COMMERCE

National Oceanic and Atmospheric Administration

50 CFR Part 660

[Docket No. 060824226 6322 02]

RIN 0648-AW34

Magnuson-Stevens Act Provisions; Fisheries Off West Coast States; Pacific Coast Groundfish Fishery; Biennial Specifications and Management Measures; Inseason Adjustments

AGENCY: National Marine Fisheries Service (NMFS), National Oceanic and Atmospheric Administration (NOAA), Commerce.

ACTION: Final rule; inseason adjustments to biennial groundfish management measures; request for comments.

SUMMARY: This final rule announces inseason changes to management measures in the commercial Pacific Coast groundfish fishery. These actions, which are authorized by the Pacific Coast Groundfish Fishery Management Plan (FMP), are intended to allow fisheries to access more abundant groundfish stocks while protecting overfished and depleted stocks.

DATES: Effective 0001 hours (local time) January 1, 2008. Comments on this final rule must be received no later than 5 p.m., local time on January 17, 2008.

ADDRESSES: You may submit comments, identified by RIN 0648-AW34 by any one of the following methods:

• Electronic Submissions: Submit all electronic public comments via the Federal eRulemaking Portal http://www.regulations.gov.

• Fax: 206-526-6736, Attn: Gretchen Arentzen

• Mail: D. Robert Lohn, Administrator, Northwest Region, NMFS, 7600 Sand Point Way NE, Seattle, WA 98115-0070, Attn: Gretchen Arentzen.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Gretchen Arentzen (Northwest Region, NMFS), phone: 206-526-6147, fax: 206-526-6736 and e-mail gretchen.arentzen@noaa.gov.

SUPPLEMENTARY INFORMATION:

Electronic Access

This final rule is accessible via the Internet at the Office of the Federal Register's Website at http://www.gpoaccess.gov/fr/index.html. Background information and documents are available at the Pacific Fishery Management Council's website at http://www.pcouncil.org/.

Background

The Pacific Coast Groundfish FMP and its implementing regulations at title 50 in the Code of Federal Regulations (CFR), part 660, subpart G, regulate fishing for over 90 species of groundfish off the coasts of Washington, Oregon, and California. Groundfish specifications and management measures are developed by the Pacific Fishery Management Council (Council), and are implemented by NMFS. A proposed rule to implement the 2007-2008 specifications and management measures for the Pacific Coast groundfish fishery and Amendment 16-4 of the FMP was published on September 29, 2006 (71 FR 57764). The final rule to implement the 2007-2008 specifications and management measures for the Pacific Coast Groundfish Fishery was published on December 29, 2006 (71 FR 78638). These specifications and management measures were codified in the CFR (50 CFR part 660, subpart G). The final rule was subsequently amended on: March 20, 2007 (71 FR 13043); April 18, 2007 (72 FR 19390); July 5, 2007 (72 FR 36617); August 3, 2007 (72 FR 43193); September 18, 2007 (72 FR 53165); and October 4, 2007 (72 FR 56664); and December 4, 2007 (72 FR 68097).

Changes to the biennial groundfish management measures implemented by this action were recommended by the Council, in consultation with Pacific Coast Treaty Indian Tribes and the States of Washington, Oregon, and California, at its November 5-9, 2007, meeting in San Diego, California. At that meeting, the Council recommended adjusting the biennial groundfish management measures for December 2007 to respond to updated fishery information, and these measures were published in a separate rulemaking on December 4, 2007 (72 FR 68097). At that same meeting, the Council recommended adjusting the biennial groundfish management measures for the remainder of the biennial period to respond to updated fishery information and other inseason management needs.

The Council recommended the following adjustments beginning January 1, 2008: (1) Setting the trawl Rockfish Conservation Area (RCA) boundaries such that they take into account recent scientific information on constraining overfished species bycatch early in the year; (2) adjusting trip limits for sablefish, longspine thornyheads, shortspine thornyheads, Dover sole, petrale sole, arrowtooth flounder, Other Flatfish, minor slope and darkblotched rockfish, Pacific ocean perch, and chilipepper rockfish in the limited entry trawl fishery; (3) recombining chilipepper rockfish into a single limited entry fixed gear cumulative limit for minor shelf, shortbelly and widow rockfish, and bocaccio between 40°10.00′ N. lat. and 34°27.00′ N. lat.; (4) increasing shortspine thornyhead limits in the limited entry fixed gear fishery south of 34°27.00′ N. lat.; (5) setting differential open access sablefish daily trip limits north of 36° N. lat. and decreasing the daily trip limits north and south of 36° N. lat.; (6) removing trip limit requirements for lingcod in the tribal fishery.

NMFS has considered these recommendations, and is implementing them as described below. Pacific Coast groundfish landings will be monitored throughout the remainder of the biennial period, and further adjustments to trip limits or management measures may be made as necessary to allow achievement of, or to avoid exceeding, optimum yields (OYs).

Fishery Management Measures for the Limited Entry Non-Whiting Trawl Fishery

At its November 2007 meeting, the Council reviewed the 2007 limited entry trawl fisheries by considering: 1) the fishery management measures initially set for 2007, 2) modifications to management measures that were needed inseason in 2007 as new data became available throughout the season, and 3) retrospective total catch pattern data from the 2007 year-to-date. A noticeable feature of the 2007 fishing season was that the Council had to, on several occasions, recommend inseason adjustments to constrain either trip limits or fishing areas in order to ensure that the total catch for 2007 of overfished species would stay within their allowable harvest levels for their rebuilding plans. This practice is in keeping with the Council's rebuilding goals for overfished species, but is challenging for an industry trying to predict whether and how much fish will be available for harvest in the next month of the year. The Council's goal in scrutinizing the 2007 fishery was to develop a set of management measures for the remainder of the biennial period, for implementation on January 1, 2008, that would take into account new knowledge gained in 2007 to better structure the fishery so initial 2008 management measures would continue to keep total catch of managed species within their optimum yield levels, and would be conservative enough to reduce the frequency with which management measure adjustments would be needed inseason.

Trawl management measures for the 2007-2008 biennium were initially set using fishery data available through the June and September 2006 Council meetings. In late January 2007, NMFS's West Coast Groundfish Observer Program (WCGOP) released new fishery data that showed that canary bycatch rates for vessels using selective flatfish bycatch gear were higher than was shown in the data available for development of management measures in 2006. The Council's first opportunity to respond to this new WCGOP data was at its March 2007 meeting, after the 2007 fishery had been underway for over two months. In order to take into account estimated canary rockfish bycatch for the early part of 2007 and to ultimately keep the 2007 and 2008 fisheries from exceeding the canary rockfish OY, the Council recommended a strict series of area closures and trip limit revisions for implementation in April 2007 (71 FR 19390, April 18, 2007).

The Council's goal in reviewing 2007 fishery data in preparation for recommending management measures for January 1, 2008, was to ensure that management measures in place for the remainder of the biennial period reflect the best available science and are appropriately designed to constrain total catch during the year for all species. To that end, the Council's Groundfish Management Team (GMT) incorporated additional new data from WCGOP, released in October 2007, and the most recently available state logbook data on trawl fishing areas. Based on 2007 fishery landed catch information received to date and on WCGOP data in combination with new logbook data, the GMT recommended that the Council consider measures to protect canary rockfish in 2008 that primarily focused on adjustments to the trawl RCA boundaries coastwide. Incidental catch of canary rockfish is of higher concern in the non-whiting trawl fishery compared to incidental catch of other overfished species because they are a shelf species that commonly co-occur with target species taken with trawl gear. Canary rockfish are the most constraining of the overfished species, based on incidental catch projections in the non-whiting trawl fishery. A GMT review of the trip limits implemented for target species in 2007 found that arrowtooth flounder was the primary species that needed adjustments to its trip limits in order to gain savings of canary rockfish bycatch in addition to the savings that the GMT estimated would be achieved from modifying the trawl RCA. Upon reviewing this analysis, the Council recommended reducing the arrowtooth flounder trip limits for selective flatfish gear in northern waters, and provided an RCA schedule for the remainder of the biennial period as next described.

The Council also received the most recent Pacific Fishery Information Network's (PacFIN) and Quota Species Monitoring (QSM) data, which estimated catch through the end of October, and considered trip limit adjustments based on the performance of the fishery during the first 10 months of the biennial period.

Limited Entry Trawl Rockfish Conservation Area

North of 40°10.00′ N. lat. The Council determined that, in order to constrain the incidental catch of canary rockfish and to prevent exceeding the 2008 canary rockfish OY, the limited entry trawl RCA north of 40°10.00′ N. lat. should be modified, using a similar approach to what was ultimately implemented in April 2007 (72 FR 19390, April 18, 2007). In some areas, the RCA would be expanded to eliminate fishing opportunity where trawl data shows higher canary rockfish bycatch rates, shifting fishing effort to depths exhibiting relatively lower canary rockfish bycatch rates. In some areas, the RCA would be liberalized to allow effort shifts and targeting opportunities in depths with relatively lower canary bycatch rates. The Council considered modification of the shoreward RCA boundaries in areas north of 40°10.00′ N. lat. that would close or substantially restrict areas with the highest bycatch rates, as identified from WCGOP data. The areas of highest canary rockfish bycatch rates included the area shoreward of the RCA north of Leadbetter Point (46°38.17′ N. lat.) and the area shoreward of the RCA between Cape Arago (43°20.83′ N. lat.) and Humbug Mountain (42°40.50′ N. lat.). The GMT analyzed the effect of relatively greater restrictions in these areas and, based on that analysis, recommended closing the shoreward area north of Cape Alava (48°10.00′ N. lat.) in the winter. For the area between Cape Alava south to Cape Arago where canary rockfish bycatch is relatively lower, yet where softshell Dungeness crab can occur, the GMT recommended a combined strategy of 75-fm (137-m) and 60-fm (110-m) shoreward RCA boundaries throughout the year.

Trawl fishing opportunities seaward of the trawl RCA are primarily constrained by measures intended to minimize the incidental catch of darkblotched rockfish. Data from the NMFS trawl survey, logbook data, and WCGOP data show that various continental slope target species and darkblotched rockfish are found in shallower depths in the north and move deeper toward the south. The GMT analyzed the effects of shifting the seaward boundary of the trawl RCA shoreward to accommodate a shift in fishing effort from nearshore to offshore waters and recommended concentrating most fishing effort throughout the year offshore of a boundary line approximating the 200-fm (366-m) depth contour, with some seasonal modifications to allow greater access to petrale sole and Other Flatfish. The Council adopted these recommendations for the seaward boundary of the RCA to allow increased fishing opportunity in offshore waters while maintaining RCA protections for darkblotched rockfish.

Based on the information and analysis described above, the Council recommended and NMFS is implementing the following changes to the trawl RCA north of 40°10.00′ N. lat. for the remainder of the biennial period: for the area north of Cape Alava, an RCA closure from the shoreline to the boundary line approximating the 200-fm (366-m) depth contour, with a winter modification to accommodate petrale sole fishing, and a summer modification to accommodate greater flatfish fishing; for the area between Cape Alava and Cape Arago, an RCA closure from a boundary line approximating the 75-fm (137-fm) depth contour to a boundary line approximating the 200-fm (366-fm) depth contour, with modifications in the spring through fall months for the Cape Alava to the Washington-Oregon border (46°16.00' N. lat.) sub-area to protect soft-shell crab and allow access to flatfish and slope target species where canary bycatch is low, and with a winter modification to accommodate petrale sole fishing; for the area between Cape Arago and Humbug Mountain, an RCA closure from the shoreline to a boundary line approximating the 200-fm (366-m) depth contour, with a winter modification to accommodate petrale sole fishing; and for the area between Humbug Mountain and 40°10.00′ N. lat., an RCA closure from a boundary line approximating the 75-fm (137-fm) depth contour to a boundary line approximating the 200-fm (366-fm) depth contour, with a winter modification to accommodate petrale sole fishing.

South of 40°10.00′ N. lat. Trawl effort seaward of the trawl RCA is primarily constrained by incidental catch of darkblotched rockfish. Incidental catch of darkblotched rockfish between 40°10.00′ N. lat. and 38° N. lat. was lower than originally predicted at the start of the biennial period. The Council determined that liberalizing the seaward boundary of the trawl RCA during winter in this area would allow increased targeting opportunities while keeping darkblotched rockfish within the 2008 OY. This would also establish a constant seaward boundary of the trawl RCA. Therefore, the Council recommended and NMFS is implementing an adjustment of the seaward boundary of the trawl RCA between 40°10.00′ N. lat. and 38° N. lat. to a boundary line approximating the 150-fm (274-m) depth contour during winter.

Limited Entry Trawl Trip Limits

North of 40°10.00′ N. lat. In addition to RCA modifications north of 40°10.00′ N. lat., the Council determined that cumulative limits in the limited entry trawl fishery should be modified to: Reduce total impacts and keep canary rockfish within the 2008 OY; provide increased access to target species in areas with lower canary bycatch rates; reduce a restriction by allowing fishermen increased opportunities to harvest available healthy stocks; reduce complexity of the cumulative limit structure and provide year round fishing opportunity; eliminate targeting of species subject to rebuilding requirements; reduce unnecessary discards; and reduce overall catches to keep stocks within their 2008 OYs.

The Council considered various combinations of cumulative limit adjustments paired with RCA modifications and area closures to reduce fishery impacts to canary rockfish. As with the RCA boundary revisions, the Council's GMT analyzed revisions to trip limits intended to shift fishing effort away from areas where canary rockfish are more commonly taken as bycatch. The Council considered and recommended a more conservative schedule of RCA boundaries, and, when paired with the reductions that had been made to other target species taken with selective flatfish trawl gear in April 2007, there were few additional trip limit reductions necessary to keep the fisheries within the 2008 canary rockfish OY. As a result, the Council recommended reducing arrowtooth flounder limits taken with selective flatfish trawl gear north of 40°10.00′ N. lat. because arrowtooth flounder are a target species more highly associated with canary rockfish bycatch and selective flatfish trawl gear is used to target arrowtooth shoreward of the trawl RCA, where canary rockfish bycatch rates are highest. The Council also recommended continuing the reduction in sablefish cumulative limits taken with selective flatfish trawl implemented in April 2007. Reducing these limits is estimated to reduce impacts on canary rockfish from status quo management measures.

In April 2007, arrowtooth flounder cumulative limits for all gear types were combined into a single cumulative limit with Other Flatfish north of 40°10.00′ N. lat. to reduce total catch and, in turn, reduce impacts on canary rockfish. The most recently available catch data indicate that an unintentional consequence of this combined limit was that arrowtooth was being discarded for other higher-priced species in the combined cumulative limit. Therefore, the Council considered separating these limits to eliminate unnecessary discards, in conjunction with reducing canary rockfish impacts with gear-specific reductions in trip limits.

To reduce the negative economic impacts of decreases to arrowtooth flounder cumulative limits taken with selective flatfish trawl gear north of 40°10.00′ N. lat., the Council recommended increasing Dover sole cumulative limits taken with selective flatfish trawl gear in that area. Dover sole are a target species not strongly associated with incidental catch of canary rockfish. The Council also recommended increasing arrowtooth flounder cumulative limits taken seaward of the RCA with large footrope trawl gear north of 40°10.00′ N. lat. to provide additional fishing opportunity for these healthy target species in waters where they are least likely to co-occur with canary rockfish. In combination with the schedule of RCAs recommended by the Council and described above, the GMT projected that an increase in the Dover sole limits using selective flatfish trawl gear could be accommodated in the nearshore areas that remain open without exceeding the 2008 canary rockfish OY, and an increase in the arrowtooth flounder cumulative limit using large and small footrope trawl gear could be accommodated in offshore areas without exceeding the 2008 darkblotched rockfish OY.

The Council also considered whether decreases in cumulative limits for petrale sole taken with selective flatfish trawl gear might reduce fishery impacts on canary rockfish. However, the Council concluded that the schedule of RCAs described above are adequate to protect the canary rockfish OY while maintaining the overall catch limits of petrale sole for the year in the nearshore areas that remain open.

Based on these analyses, the Council recommended and NMFS is implementing changes in the limited entry trawl flatfish fishery north of 40°10.00′ N. lat. for the remainder of the biennial period that increase arrowtooth flounder trip limits for waters offshore of the trawl RCA, yet decrease arrowtooth flounder trip limits in the area shoreward of the trawl RCA and for selective flatfish trawl gear, and that stabilize Dover sole and Other Flatfish cumulative limits throughout the year, also with greater Dover sole opportunities offshore than nearshore, beginning January 1, 2008.

In 2007, landings and total mortality estimates were lower than had been initially estimated for continental slope species Dover sole, longspine and shortspine thornyheads, and sablefish (DTS complex species) taken seaward of the trawl RCA with large and small footrope trawl gear north of 40°10.00′ N. lat. and limits for these DTS species were increased inseason in 2007. Under status quo regulations, total catch projections for these species are estimated to be below the 2008 OYs. Therefore, the Council developed a strategy for the remainder of the biennial period to re-distribute catch levels for DTS species more evenly over the entire period, reducing complexity in the cumulative limit structure and providing year round fishing opportunity. As discussed above, the Council recommended a stabilized trip limit strategy for Dover sole, beginning January 1, 2008. Dover sole is broadly distributed over a wide range of depths, and associates both with Other Flatfish species and, in deep water with the other species in the DTS complex. Consistent with its 2008 strategy for flatfish, the Council also recommended, and NMFS is implementing, a DTS complex strategy of stabilizing trip limits throughout the year and maintaining low status quo trip limits in offshore areas where overfished species are less likely to be taken, beginning January 1, 2008.

In March 2007, the Council recommended and NMFS implemented a decrease in the minor slope and darkblotched rockfish combined cumulative limit north of 40°10.00′ N. lat. to reduce the impact of greater effort occurring in offshore areas where darkblotched rockfish are found, and considered how increased trawl effort seaward of the RCA would affect the incidental impacts to Pacific ocean perch (POP); however, inseason adjustments were anticipated to keep POP total catch well within its 2007 OY of 150 mt (72 FR 19390, April 18 2007). At its November 2007 meeting, the Council considered continuing the lower minor slope and darkblotched rockfish limits for the remainder of the biennial period, since management measures that shift fishing effort into deeper waters to protect canary rockfish can also increase bycatch of deepwater overfished species, such as darkblotched and POP. To prevent vessels from targeting darkblotched rockfish and POP, the Council recommended and NMFS is implementing a strategy for the remainder of the biennial period for slope rockfish species taken north of 40°10.00′ N. lat. that, beginning January 1, 2008, maintains the lower status quo trip limits.

South of 40°10.00′ N. lat. The Council determined that cumulative limits in the limited entry trawl fishery south of 40°10.00′ N. lat. should be modified to: reduce unnecessary discards; reduce a restriction by allowing fishermen increased opportunities to harvest available healthy stocks; and, reduce complexity of the cumulative limit structure and provide year round fishing opportunity.

In May 2007, arrowtooth flounder cumulative limits were combined into a single cumulative limit with Other Flatfish south of 40°10.00′ N. lat. to increase targeting flexibility while reducing total catch. The most recently available catch data indicate that an unintentional consequence of this combined limit was that arrowtooth was being discarded for other higher-priced species in the combined cumulative limit. As in the north, the Council recommended separating these limits to eliminate unnecessary discards by setting the cumulative limit for the year as it was set prior to inseason changes in May 2007.

In addition, the Council considered the strategy of separate chilipepper rockfish limits for the remainder of the biennial period. Chilipepper rockfish are an abundant species taken in common with other rockfish in the southern shelf rockfish complex. Based on the most recently available WCGOP data, chilipepper rockfish are being regularly discarded under current trip limits for small footrope trawl gear south of 40°10.00′ N. lat. OYs for chilipepper rockfish have not come close to being achieved in recent years. For example, in the 2005 limited entry trawl and fixed gear fishery, the chilipepper rockfish landings were 28 mt, less than 3 percent of the 1099 mt chilipepper rockfish OY. In June 2007, the Council recommended and NMFS implemented an increase in chilipepper rockfish limits to allow some of this discard to be retained while keeping limits low enough to prevent targeting, and a modest increase in monthly limits for small footrope trawl gear south of 40°10.00′ N. lat. (72 FR 36617, July 5, 2007). Catch estimates indicate that targeting did not occur under this higher limit, and there was little increase in the catch of co-occurring bocaccio and widow rockfish. At their November 5-9 meeting, the Council considered increasing chilipepper limits, and catch projections estimate that less than 54 percent of the 2008 bocaccio OY and less than 79 percent of the 2008 widow rockfish OY will be obtained for either bocaccio or widow rockfish by the end of 2008 with these changes. This means that, even if catch of chilipepper rockfish were to increase in 2008, and higher than expected bycatch of bocaccio and widow rockfish occurs, bocaccio and widow rockfish total catch would still remain within their 2008 OYs.

Therefore, the Council recommended and NMFS is implementing a fishing strategy for the remainder of the biennial period for both arrowtooth flounder and chilipepper rockfish for the limited entry trawl fishery south of 40°10.00′ N. lat. that separates arrowtooth flounder from Other Flatfish limits, beginning January 1, 2008 and that increases the chilipepper rockfish limits using small footrope trawl gear to 2,000 lb (907 kg) per two months, beginning January 1, 2008.

In 2007, landings and total mortality estimates were lower than had been estimated preseason for DTS complex species and Other Flatfish south of 40°10.00′ N. lat. and limits for these species were increased inseason. If the limits for DTS complex species were maintained for early 2008, total catch projections were estimated to be below the 2008 OYs for these species. In addition, status quo cumulative limits for DTS complex species and Other Flatfish would ramp up throughout the year, providing less fishing opportunity early in the year. Therefore, the Council recommended and NMFS is implementing a strategy for DTS complex species and Other Flatfish taken with trawl gear south of 40°10.00′ N. lat. to stabilize tip limit levels for these species throughout the year, with lower limits for sablefish in winter months, beginning January 1, 2008.

At its March 2007 meeting, the Council received preliminary landings data indicating higher than expected petrale sole catch through February and recommended reducing summer petrale sole trip limits coastwide to keep total catch within the 2007 petrale sole OY. At its November 2007 meeting, the Council considered the most recent fishery data and performance of the 2007 fishery and did not recommend this strategy for the remainder of the biennial period. Instead, the Council recommended and NMFS is implementing petrale sole trip limits south of 40°10.00′ N. lat. equivalent to the levels established at the beginning of the biennial period and continuing the status quo strategy of providing greater petrale sole fishing limits in the offshore areas in winter months, when overfished species bycatch is lowest.

Trip limits for minor slope and darkblotched rockfish south of 38° N. lat. were increased inseason in 2007 after the Council considered data at their September meeting indicating that only 16 percent (286 mt out of 1,786 mt) of the 2007 minor slope rockfish OY south of 38° N. lat. was expected to be taken through the end of 2007. At their November 2007 meeting, the Council considered the most recent fishery data and performance of the 2007 fishery and recommended continuing higher trip limits and stabilizing limits for minor slope and darkblotched rockfish for the remainder of the biennial period to allow fishermen to access available healthy stocks while keeping catch of overfished and depleted species within 2008 OYs. Darkblotched rockfish and POP are overfished slope species within this complex; however, these species are much less abundant south of 38° N. lat. Yelloweye rockfish, impacts to which are of concern in hook-and-line fisheries like the California recreational fishery, are rarely taken in trawl fisheries. Therefore, the Council recommended and NMFS is implementing a strategy that stabilizes the combined cumulative limit for minor slope and darkblotched rockfish south of 38° N. lat. at 55,000 lb (24,948 kg) for the remainder of the biennial period.

Limited Entry Fixed Gear Trip Limits South of 40°10.00′ N. Lat.

As described in the section above (Limited Entry Trawl Trip Limits South of 40°10.00′ N. lat.), chilipepper rockfish are an abundant species taken in common with other rockfish in the southern shelf rockfish complex. Chilipepper rockfish taken in the limited entry fixed gear fishery south of 40°10.00′ N. lat. were removed from the combined cumulative limit for minor shelf rockfish, shortbelly and widow rockfish at the beginning of the 2005 fishing season to allow increased targeting opportunities. In June 2007, the Council received a request to recombine chilipepper rockfish into the combined cumulative limit to allow increased targeting opportunities and reduced discards. The Council had concerns, however, with the impacts to overfished species that might occur from combining chilipepper rockfish cumulative limits into a single cumulative limit with minor shelf rockfish, bocaccio and widow rockfish, since the high abundance of chilipepper rockfish would result in a combined limit too high to be supported by less abundant species in the complex. At their November 2007 meeting, the Council discussed recombining chilipepper rockfish into a single combined cumulative limit, but with a sub-limit for all species other than chilipepper rockfish, to constrain catch of overfished species in the combined limit but allow additional opportunity for chilipepper rockfish. Therefore, the Council recommended and NMFS is implementing the following trip limit changes for the limited entry fixed gear fishery between 40°10.00′ N. lat. and 34°27.00' N. lat.: modify the chilipepper rockfish limit of 2,000 lb (907 kg) per two months by recombining it into a single combined cumulative limit with minor shelf rockfish, shortbelly, widow rockfish and bocaccio, and increase the trip limit from 500 lb (267 kg) per two months to “2,500 lb (1,134 kg) per two months of which no more than 500 lb (267 kg) per two months may be any species other than chilipepper rockfish,” beginning January 1, 2008.

In June 2007, the Council recommended a short term increase in shortspine thornyhead cumulative limits south of 34°27.00′ N. lat. during Period 4 (July 1 through August 31). The Council had considered whether increases in effort in this area could result in higher incidental catches of sablefish and other species; however, estimates at that time showed that sablefish catches in this area were actually lower than had been estimated preseason for 2007. In September 2007, the most recent catch data indicated that the Period 4 increases in the shortspine thornyhead cumulative limit did not result in a large effort shift, and only slightly increased the catch rate in this area. Therefore, the Council recommended continuing the Period 4 increases to the shortspine thornyhead cumulative limit south of 34°27.00′ N. lat. through the end of 2007. At the November 2007 Council meeting, the GMT recommended continuing the higher limit for the remainder of the biennial period because a change in behavior relative to the 2007 fishing season is not expected. Therefore, the Council recommended, and NMFS is implementing the following changes for the limited entry fixed gear fishery south of 34°27.00′ N. lat.: increase the shortspine thornyhead limits from 2,000 lb (907 kg) per 2 months to 3,000 lb (1,361 kg) per 2 months, beginning January 1, 2008.

Open Access Fishery Management Measures

At their June 2007 meeting, the Council recommended and NMFS implemented an increase in the daily and weekly limits in the open access sablefish daily trip limit (DTL) fishery south of 36° N. lat. on August 1. The most recent catch information indicates that there have been increased sablefish landings in this area in 2007. In November 2007, the GMT compared current trip limits with historical catches and trip limits. An analysis of 2003 through 2006 catch information indicates that increased effort and increased per-vessel catch have been responsible for the increased landings of sablefish in this area, in particular after the August 1, 2007, increases in daily and weekly trip limits. If catch rates seen during 2007 were to continue for the remainder of the biennial period, the 2008 sablefish OY could be exceeded. The Council considered decreasing the weekly limits to 800 lb (363 kg) and implementing a two month cumulative limit of 2,400 lb (1,089 kg) per two months to keep catch projections within the 2008 sablefish OY; however, industry testimony stated that introducing a two month cumulative limit would force many long-time fishermen out of this fishery.

The Council also considered using differential trip limits for open access sablefish north and south of 36° N. lat. to control shifts in effort that were seen in 2007. The Council discussed keeping weekly and daily limits equal to deter effort shifts; however, the bimonthly limit north of 36° N. lat. and the lack of a bimonthly limit south of 36° N. lat. will likely cause a shift of some effort to the south even when daily and weekly limits are equal. The GMT reviewed sablefish catch projections relative to overfished species impacts and an increase in trip limits can be accommodated north of 36° N. lat., which may reduce incentives for fishermen to shift their effort south where there is no bi-monthly limit for sablefish. Therefore, the Council recommended, and NMFS is implementing a sablefish limit strategy for the open access fishery that decreases the sablefish DTL limits south of 36° N. lat. from “350 lb (159 kg) per day, or 1 landing per week of up to 1,050 lb (476 kg)” to “300 lb (136 kg) per day, or 1 landing per week of up to 700 lb (318 kg)”, and increases the sablefish DTL limits north of 36° N. lat. from “300 lb (136 kg) per day, or 1 landing per week of up to 700 lb (318 kg), not to exceed 2,100 lb (953 kg) per two months” to “300 lbs (136 kg) per day, or 1 landing per week up to 800 lbs (363 kg), not to exceed 2,400 lbs per two months,” beginning January 1, 2008.

Tribal Fishery Management Measures

At their November 2007 meeting, the Council was informed of unnecessary discards of lingcod in tribal fisheries as they reached their lingcod limits in some sectors of the fishery. Other sectors reduced target opportunities on associated species to avoid unnecessary lingcod discards. The tribes proposed to change lingcod management in 2008 to avoid unnecessary discards of lingcod. Rather than maintaining the current trip limits of 1,000 lb (454 kg) per day and 4,000 lb (1,814 kg) per week in the troll fishery and 600 lb (272 kg) per day and 1,800 lb (816 kg) per week for all other sectors, the tribes will manage all tribal fisheries to stay within an expected total lingcod catch of 250 mt. The tribes will continue to manage their fisheries to stay within the current catch estimates of canary and yelloweye rockfish impacts, regardless of any new targeting strategies for lingcod.

Classification

These actions are taken under the authority of 50 CFR 660.370(c) and are exempt from review under Executive Order 12866.

These actions are authorized by the Pacific Coast groundfish FMP and its implementing regulations, and are based on the most recent data available. The aggregate data, upon which these actions are based, are available for public inspection at the Office of the Administrator, Northwest Region, NMFS, (see ADDRESSES) during business hours.

For the following reasons, NMFS finds good cause to waive prior public notice and comment on the revisions to biennial groundfish management measures under 5 U.S.C. 553(b)(3)(B) because notice and comment would be impracticable and contrary to the public interest. Also for the same reasons, NMFS finds good cause to waive the 30-day delay in effectiveness pursuant to 5 U.S.C. 553(d)(1) and 5 U.S.C. 553(d)(3).

The data upon which these recommendations were based was provided to the Council and the Council made its recommendations at its November 5-9, 2007, meeting in San Diego, California. There was not sufficient time after that meeting to draft this notice and undergo proposed and final rulemaking before these actions need to be in effect. For the actions to be implemented in this notice, affording the time necessary for prior notice and opportunity for public comment would be impractical and contrary to the public interest because it would prevent the Agency from managing fisheries using the best available science to approach without exceeding the OYs for Federally managed species. The adjustments to management measures in this document affect commercial and tribal groundfish fisheries off Washington, Oregon, and California.

Changes to cumulative limits for the remainder of the biennial period in the limited entry non-whiting trawl fishery and to the trawl RCA north of 40°10.00′ N. lat. are based on the most recently available fishery information and must be implemented by January 1, 2008 to adequately constrain the projected bycatch of canary rockfish, a groundfish species that is currently subject to rebuilding requirements, and to provide increased access to fishing in areas with lower canary rockfish bycatch rates. The projected bycatch of canary rockfish must be reduced in order to keep coastwide fisheries from exceeding that species rebuilding OY. Shoreward boundaries of the trawl RCA and cumulative limit adjustments for arrowtooth flounder caught with selective flatfish trawl gear must be restricted to lower canary rockfish impacts. Seaward boundaries of the trawl RCA and cumulative limit adjustments for the following species must be liberalized to relieve a restriction and allow fishing opportunities in areas where fishing can occur with relatively lower canary rockfish impacts: arrowtooth flounder using large and small footrope trawl gear; and Dover sole using selective flatfish trawl gear. Changes to the trawl RCA to reduce the bycatch of canary and darkblotched rockfish must be implemented by January 1, 2008, so that the total catch of canary and darkblotched rockfish stays within their 2008 OYs, as defined in the rebuilding plan for this species. It would be contrary to the public interest to wait to implement these RCA revisions until after public notice and comment, because making this regulatory change as soon as possible relieves a regulatory restriction for fisheries that are important to coastal communities.

Liberalizing the seaward boundary of the limited entry trawl RCA between 40°10.00′ N. lat. and 38° N. lat. and changes to all other cumulative limits in the non-whiting commercial fisheries must be implemented in a timely manner to: reduce a restriction by allowing fishermen increased opportunities to harvest available healthy stocks; reduce complexity of the cumulative limit structure and provide year round fishing opportunity; eliminate targeting of species subject to rebuilding requirements; reduce unnecessary discards; and reduce overall catches to keep stocks within their 2008 OYs. Changes to commercial cumulative limits for the following stocks must be implemented in a timely manner by January 1, 2008: (1) sablefish, longspine thornyhead, shortspine thornyhead, Dover sole, Other Flatfish, petrale sole, arrowtooth flounder, Pacific ocean perch (POP), chilipepper rockfish, and minor slope rockfish in the limited entry trawl fishery; (2) chilipepper and shortspine thornyheads in the limited entry fixed gear fishery; and (3) sablefish in the open access daily trip limit fishery. Some of these changes allow fishermen an opportunity to harvest higher trip limits for stocks with lower than expected projected catch, and open some areas seaward of the trawl RCA south of 40°10.00′ N. lat. based on availability of incidentally caught overfished species; therefore, it would be contrary to the public interest to fail to increase these limits and open these areas to reduce the current restrictions in a timely manner. Some of these changes implement restrictions for target species to keep 2008 projected total mortality for these species within their 2008 OYs. Changes in cumulative limits for the following species do not result in a total reduction or increase in per-vessel catch, but re-distribute cumulative limits to provide more stable year round fishing opportunities: (1) petrale sole and (2) Other Flatfish taken with selective flatfish trawl gear in the limited entry trawl fishery north of 40°10.00′ N. lat.; and, (3) Dover sole in the limited entry trawl fishery south of 40°10.00′ N. lat. Changes in cumulative limits for minor slope rockfish and POP to eliminate targeting opportunities for darkblotched rockfish and POP must be implemented as close as possible to January 1, 2008, so that the total catch of darkblotched rockfish and POP stay within their 2008 OYs, as defined in the rebuilding plans for these species. All of these cumulative limit changes keep projected mortality for overfished species within current estimates.

Changes to lingcod trip limits in the tribal fishery must be implemented in a timely manner to: reduce unnecessary discards; and reduce a restriction by allowing fishermen in the tribal fishery increased flexibility in lingcod targeting opportunities. Changes to tribal lingcod cumulative limits are within projected mortality for overfished species.

It would be contrary to the public interest to wait to implement these trip limit changes until after public notice and comment, because making these regulatory changes as soon as possible reduces regulatory restriction for fisheries that are important to coastal communities and fishery participants. For the same reasons, allowing a 30-day delay in effectiveness would be contrary to the public interest.

Delaying these changes would keep management measures in place that are not based on the best available data, which could risk fisheries exceeding OYs, or deny fishermen access to available harvest. Such delay would impair achievement of one of the Pacific Coast Groundfish FMP objectives of providing for year-round harvest opportunities or extending fishing opportunities as long as practicable during the fishing year.

List of Subjects in 50 CFR Part 660

Administrative practice and procedure, Fisheries, Reporting and recordkeeping requirements.

Dated: December 11, 2007.
Emily H. Menashes,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq.

2. In § 660.385 paragraph (c) is revised to read as follows:

§ 660.385 Washington coastal tribal fisheries management measures.

* * * * *

(c) Lingcod. Lingcod taken in the treaty fisheries are subject to an overall expected total lingcod catch of 250 mt.

* * * * *

3. Tables 3 (North), 3 (South), 4 (South), 5 (North), and 5 (South) to part 660 subpart G are revised to read as follows.

BILLING CODE 3510-22-S

[FR Doc. 07-6077 Filed 12-17-07; 8:45 am]

BILLING CODE 3510-22-C